DEPARTMENT OF COMMERCE

International Trade Administration

[C-570-163]

Certain Glass Wine Bottles From the People's Republic of China: Final Affirmative Countervailing Duy Determination and Final Affirmative Determination of Critical Circumstances

AGENCY: Enforcement and Compliance, International Trade Administration, Department of Commerce.

SUMMARY: The U.S. Department of Commerce (Commerce) determines that countervailable subsidies are being provided to producers and exporters of certain glass wine bottles (wine bottles) from the People's Republic of China (China). The period of investigation is January 1, 2022, through December 31, 2022.

DATES: Applicable August 26, 2024.

FOR FURTHER INFORMATION CONTACT: Preston Cox, Scarlet Jaldin, or Theodora Mattei, AD/CVD Operations, Office VI, Enforcement and Compliance, International Trade Administration, U.S. Department of Commerce, 1401 Constitution Avenue NW, Washington, DC 20230; telephone: (202) 482-5041, (202) 482-4275, or (202) 482-4834, respectively.

SUPPLEMENTARY INFORMATION:

Background

On May 28, 2024, Commerce published the Preliminary Determination in the Federal Register and invited interested parties to comment.¹ Subsequently, on July 23, 2024, Commerce issued its Post-Preliminary Analysis.² For a complete description of the events that followed the Preliminary Determination, see the Issues and Decision Memorandum.³ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Certain Glass Wine Bottles from the People's Republic of China: Preliminary Affirmative Countervailing Duty Determination and Preliminary Affirmative Determination of Critical Circumstances, 89 FR 47533 (June 3, 2024) (Preliminary Determination), and accompanying Preliminary Decision Memorandum (PDM).

² See Memorandum, “Post-Preliminary Decision Memorandum for the Countervailing Duty Investigation of Certain Glass Wine Bottles from the People's Republic of China,” dated July 23, 2024 (Post-Preliminary Analysis).

³ See Memorandum, “Issues and Decision Memorandum for the Final Affirmative Determination in the Countervailing Duty Investigation of Certain Glass Wine Bottles from the People's Republic of China,” dated concurrently with, and herby adopted by, this notice (Issues and Decision Memorandum).

Scope of the Investigation

The products covered by this investigation are wine bottles from China. For a complete description of the scope of this investigation, see Appendix I.

Scope Comments

During the course of this investigation, Commerce received scope comments from parties. Commerce issued a Preliminary Scope Decision Memorandum to address these comments and set aside a period of time for parties to address scope issues in scope-specific case and rebuttal briefs.⁴ We received comments from parties on the Preliminary Scope Decision Memorandum, which we address in the Final Scope Decision Memorandum.⁵ We did not make any changes to the scope of the investigation from the scope published in the Preliminary Determination, as noted in Appendix I.

⁴ See Memorandum, “Preliminary Scope Decision Memorandum,” dated May 28, 2024 (Preliminary Scope Decision Memorandum).

⁵ See Memorandum, “Final Scope Decision Memorandum,” dated concurrently with this notice (Final Scope Decision Memorandum).

Analysis of Subsidy Programs and Comments Received

The subsidy programs under investigation, and the issues raised in the case and rebuttal briefs that were submitted by parties in this investigation, are discussed in the Issues and Decision Memorandum. For a list of the issues raised by interested parties and addressed in the Issues and Decision Memorandum, see Appendix II to this notice.

Methodology

Commerce conducted this investigation in accordance with section 701 of the Tariff Act of 1930, as amended (the Act). For each of the subsidy programs found to be countervailable, Commerce determines that there is a subsidy, i.e., a financial contribution by an “authority” that gives rise to a benefit to the recipient, and that the subsidy is specific.⁶ For a full description of the methodology underlying our final determination, see the Issues and Decision Memorandum.

⁶ See sections 771(5)(B) and (D) of the Act regarding financial contribution; section 771(5)(E) of the Act regarding benefit; and section 771(5A) of the Act regarding specificity.

In making this final determination, Commerce relied, in part, on facts otherwise available, including with an adverse inference, pursuant to sections 776(a) and (b) of the Act. For a full discussion of our application of adverse facts available, see the Preliminary Determination ⁷ and the Issues and Decision Memorandum at the section entitled “Use of Facts Otherwise Available and Application of Adverse Inferences.”

⁷ See Preliminary Determination PDM at 8-36.

Verification

Commerce was unable to conduct on-site verification of the information relied on in making its final determination in this investigation. However, in June and July 2024, we took additional steps in lieu of on-site verification to verify the information relied upon in making this final determination, in accordance with section 782(i) of the Act, by conducting virtual verification of Shandong Changyu Glass Co., Ltd. (Shandong Changyu).⁸ Yantai Prime Packaging Co., Ltd. (YPP) notified Commerce of its intent not to participate in a virtual verification.⁹

⁸ See Memorandum, “Report on Verification of Shandong Changyu Glass Co., Ltd. and Its Affiliates,” dated July 15, 2024.

⁹ See YPP's Letter, “Notification of Non-Participation,” dated June 18, 2024.

Changes Since the Preliminary Determination and Post-Preliminary Analysis

Based on our review and analysis of the information received at verification, for this final determination, we made certain changes to the countervailable subsidy rate calculations for Shandong Changyu. For a discussion of these changes, see the Issues and Decision Memorandum.

Final Affirmative Determination of Critical Circumstances

Pursuant to sections 705(a)(2), 776(a), and 776(b) of the Act, and 19 CFR 351.206, Commerce finds that critical circumstances exist with respect to imports of wine bottles from China for Shandong Changyu, YPP, all other producers and/or exporters, and the non-responsive companies. For further information on Commerce's critical circumstances analysis, see the section “Final Critical Circumstances Determination” in the accompanying Issues and Decision Memorandum.

All-Others Rate

Pursuant to section 705(c)(5)(A)(i) of the Act, Commerce will determine an all-others rate equal to the weighted-average countervailable subsidy rates established for exporters and/or producers individually examined, excluding any rates that are zero, de minimis, or based entirely under section 776 of the Act. In this investigation, Commerce calculated an individual estimated countervailable subsidy rate for Shandong Changyu, the only individually-examined exporter/producer in this investigation for which Commerce is calculating an estimated countervailable subsidy rate. Because the only individually calculated rate is not zero, de minimis, or based entirely on facts otherwise available, the estimated countervailable subsidy rate calculated for Shandong Changyu is the rate assigned to all other producers and exporters, pursuant to section 705(c)(5)(A)(i) of the Act.

Final Determination

Commerce determines that the following estimated countervailable subsidy rates exist:

Company | Subsidy rate (percent ad valorem)
Shandong Changyu Glass Co., Ltd.¹⁰ | 21.31
Boliva International Limited | * 212.58
Bright Glassware | * 212.58
Shandong Dingxin Electronic | * 212.58
Wenden Wensheng Glass Co., Ltd | * 212.58
Wuixi Hua Zhong Glass Co. Ltd | * 212.58
Xiamen Jane Jonson Co. Ltd | * 212.58
Yamamura Glass Qinhuangdao | * 212.58
Yantai Prime Packaging Co., Ltd | * 212.58
Zibo Regal Glass Products Co. Ltd | * 212.58
All Others | 21.31
* Rate based on adverse facts available.¹¹

Disclosure

Commerce intends to disclose to interested parties the calculations performed in connection with this final determination within five days of its public announcement or, if there is no public announcement, within five days of the date of publication of this notice in the Federal Register, in accordance with 19 CFR 351.224(b).

¹⁰ Commerce finds that Shandong Changyu is cross-owned with Yantai Changyu Glass Co., Ltd.; Yantai Changyu Investment Co., Ltd.; Yantai Changyu Glass Printing Co., Ltd.; Yantai Changyu Fuel Co., Ltd.; and Yantai Changyu Storage and Transportation Co., Ltd.

¹¹ See Memorandum, “AFA Calculation Memorandum for the Final Determination,” dated concurrently with this notice.

Suspension of Liquidation

As a result of our Preliminary Determination, and pursuant to sections 703(d)(1)(B) and (d)(2) of the Act, Commerce instructed U.S. Customs and Border Protection (CBP) to collect cash deposits and suspend liquidation of entries of subject merchandise as described in the scope of the investigation section entered, or withdrawn from warehouse, for consumption on or after June 3, 2024, the date of publication of the Preliminary Determination in the Federal Register. Because we preliminarily determined that critical circumstances existed with respect to Shandong Changyu, all other producers and/or exporters, and the non-responsive companies, we instructed CBP to suspend such entries on or after March 5, 2024, which is 90 days prior to the date of the publication of the Preliminary Determination in the Federal Register.

Pursuant to section 705(c)(1)(B)(ii) of the Act, and 19 CFR 351.210(d) where appropriate, Commerce will instruct CBP to require a cash deposit equal to the estimated individual countervailable subsidy rate or the estimated all-others rate, as indicated in the chart above, effective on the date of publication of this final determination.

If the U.S. International Trade Commission (ITC) issues a final affirmative injury determination, we will issue a countervailing duty order, and require a cash deposit of estimated countervailing duties for such entries of subject merchandise in the amounts indicated above, in accordance with section 706(a) of the Act. If the ITC determines that material injury, or threat of material injury, does not exist, this proceeding will be terminated, and all estimated duties deposited or securities posted as a result of the suspension of liquidation will be refunded or cancelled.

ITC Notification

In accordance with section 705(d) of the Act, Commerce will notify the ITC of its final affirmative determination that countervailable subsidies are being provided to producers and exporters of wine bottles from China. As Commerce's final determination is affirmative, in accordance with section 705(b) of the Act, the ITC will determine, within 45 days, whether the domestic industry in the United States is materially injured, or threatened with material injury, by reason of imports of wine bottles from China. In addition, we are making available to the ITC all non-privileged and non-proprietary information in our files, provided the ITC confirms that it will not disclose such information, either publicly or under administrative protective order (APO), without the written consent of the Assistant Secretary for Enforcement and Compliance.

Administrative Protective Order

In the event that the ITC issues a final negative injury determination, this notice will serve as the only reminder to parties subject to the APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published pursuant to sections 705(d) and 777(i) of the Act, and 19 CFR 351.210(c).

Dated: August 19, 2024.
Ryan Majerus,
Deputy Assistant Secretary for Policy and Negotiations, performing the non-exclusive functions and duties of the Assistant Secretary for Enforcement and Compliance.

Appendix I

Scope of the Investigation

The merchandise covered by the investigation is certain narrow neck glass bottles, with a nominal capacity of 740 milliliters (25.02 ounces) to 760 milliliters (25.70 ounces); a nominal total height between 24.8 centimeters (9.75 inches) to 35.6 centimeters (14 inches); a nominal base diameter between 4.6 centimeters (1.8 inches) to 11.4 centimeters (4.5 inches); and a mouth with an outer diameter of between 25 millimeters (.98 inches) to 37.9 millimeters (1.5 inches); frequently referred to as a “wine bottle.” In scope merchandise may include but is not limited to the following shapes: Bordeaux (also known as “Claret”), Burgundy, Hock, Champagne, Sparkling, Port, Provence, or Alsace (also known as “Germanic”). In scope glass bottles generally have an approximately round base and have shapes including but not limited to, straight-sided, a tapered slope from shoulder (i.e., the sloping part of the bottle between the neck and the body) to base, or a long neck with sloping shoulders to a wider base. The scope includes glass bottles, whether or not clear, whether or not colored, with or without a punt (i.e., an indentation on the underside of the bottle), and with or without design or functional enhancements (including, but not limited to, embossing, labeling, or etching). In scope merchandise is made of non-“free blown” glass, i.e., in scope merchandise is produced with the use of a mold and is distinguished by mold seams, joint marks, or parting lines. In scope merchandise is unfilled and may be imported with or without a closure, including a cork, stelvin (screw cap), crown cap, or wire cage and cork closure.

Excluded from the scope of the investigation are: (1) glass containers made of borosilicate glass, meeting United States Pharmacopeia requirements for Type 1 pharmaceutical containers; and (2) glass containers without a “finish” (i.e., the section of a container at the opening including the lip and ring or collar, threaded or otherwise compatible with a type of closure, including but not limited to a cork, stelvin (screw cap), crown cap, or wire cage and cork closure).

Glass bottles subject to the investigation are specified within the Harmonized Tariff Schedule of the United States (HTSUS) under subheading 7010.90.5019. The HTSUS subheading is provided for convenience and customs purposes only. The written description of the scope of the investigation is dispositive.

Appendix II

List of Topics Discussed in the Issues and Decision Memorandum

I. Summary

II. Background

III. Scope of the Investigation

IV. Use of Facts Otherwise Available and Application of Adverse Inferences

V. Final Critical Circumstances Determination

VI. Subsidies Valuation Information

VII. Analysis of Programs

VIII. Discussion of the Issues

Comment 1: Whether Commerce Should Find that Shandong Changyu Used the Export Buyer's Credit (EBC) Program as Adverse Facts Available (AFA)

Comment 2: Whether Commerce Should Find Shandong Changyu Uncreditworthy

Comment 3: Whether Commerce Should Find Countervailable the Provision of Natural Gas for Less Than Adequate Remuneration (LTAR) Program

Comment 4: Whether Commerce Should Conduct an On-site Verification

Comment 5: Whether Commerce Should Attribute to Shandong Changyu Countervailable Subsidies Received by Shandong Changyu's Cross-Owned Affiliates

Comment 6: Whether the Application of AFA to the Provision of Electricity for LTAR is Appropriate

Comment 7: Whether Commerce Should Find, based on AFA, that Shandong Changyu Used the Silica Sand for LTAR Program

Comment 8: Whether Commerce Should Find, based on AFA, that Shandong Changyu Used Other Subsidies

Comment 9: Whether Commerce Should Apply Total AFA to Shandong Changyu for Its Reporting of Policy Loans to the Wine Bottles Industry Program

IX. Recommendation

[FR Doc. 2024-19069 Filed 8-23-24; 8:45 am]

BILLING CODE 3510-DS-P